SECURITIES AND EXCHANGE COMMISSION

Issuer Delisting; Notice of Application To Withdraw From Listing and Registration; (Electrochemical Industries, Ltd., Common Stock, Par Value NIS 1 Per Share) From the American Stock Exchange LLC File No. 1-10422

March 27, 2002.

Electrochemical Industries, Ltd., a corporation organized under the laws of Israel (“Issuer”), has filed an application with the Securities and Exchange Commission (“Commission”), pursuant to section 12(d) of the Securities Exchange Act of 1934 (“Act”) ¹ and Rule 12d2-2(d) thereunder,² to withdraw its Common Stock, par value NIS 1 per share (“Security”), from listing and registration on the American Stock Exchange LLC (“Amex” or “Exchange”).

¹ 15 U.S.C. 78l(d).

² 17 CFR 240.12d2-2(d).

The Issuer stated in its application that it has met the requirements of Amex Rule 18 by complying with all applicable laws in effect in Israel, in which it is incorporated, and with the Amex's rules governing an issuer's voluntary withdrawal of a security from listing and registration. The Amex has, in turn, informed the Issuer that it does not object to the proposed withdrawal of the Issuer's Security from listing and registration on the Exchange. The Issuer states that it will continue listing its Security on the Tel Aviv Stock Exchange. The Issuer's application relates solely to the withdrawal of the Security from listing and registration under section 12(b) of the Act ³ and shall not effect its obligation to be registered under section 12(g) of the Act.⁴

³ 15 U.S.C. 78l(b).

⁴ 15 U.S.C. 78l(g).

The Board of Trustees (“Board”) of the Issuer unanimously approved a resolution on March 10, 2002 to withdraw the Issuer's Security from listing on the Amex. In making the decision to withdraw its Security from the Amex, the Board cites low trading volume and market capitalization of its Security. In addition, the Company has recently sustained losses and is uncertain when it will return to profitability. The Company's Security has fallen below certain Amex guidelines with respect to continued listing due to the present market conditions of the Company's production.

Any interested person may, on or before April 19, 2002, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 02-7900 Filed 4-1-02; 8:45 am]

BILLING CODE 8010-01-P